DEPARTMENT OF TRANSPORTATION

Federal Aviation Administration

[Summary Notice No. PE-2000-22]

Petitions for Exemption: Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 3, 2000.

ADDRESSES: Send comments on any petition in triplicate to: Federal Aviation Administration, Office of the Chief Counsel, Attn: Rule Docket (AGC-200), Petition Docket No. _, 800 Independence Avenue, SW., Washington, D.C. 20591.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on July 10, 2000.
Donald P. Byrne,
Assistant Chief Counsel for Regulations.

Dispositions of Petitions

Docket No.: 29422

Petitioner: Gulfstream Aerospace Corporation

Section of the FAR Affected: 14 CFR 43.9(a)(4), 43.11(a)(3), appendix B to part 43, and 145.57(a)

Description of Relief Sought/Disposition: To allow Gulfstream qualified technicians and inspection personnel to use electronic signatures in lieu of physical signatures to satisfy approval for return-to-service signature requirements for the completions processes for Gulfstream aircraft.

Grant, 04/03/2000, Exemption No. 7163.

Docket No.: 28422

Petitioner: Broward County, Florida Public Works Department

Section of the FAR Affected: 14 CFR 137.53(c)(2)

Description of Relief Sought/Disposition: To permit Broward to conduct aerial applications of insecticide materials from a Beechcraft C-45H aircraft (Registration No. N850BC, Serial No. 51-1184A) without the aircraft being equipped with a device that is capable of jettisoning at least one-half of the aircraft's maximum authorized load of agricultural materials within 45 seconds when operating over a congested area.

Grant, 04/04/2000, Exemption No. 6470B.

Docket No.: 23869

Petitioner: The Uninsured Relative Workshop, Inc.

Section of the FAR Affected: 14 CFR 105.43(a)

Description of Relief Sought/Disposition: To permit employees, representatives, and other volunteer experimental test jumpers under TURWI's control to make tandem parachute jumps while wearing a dual-harness, dual-parachute pack that has at lease one main parachute and one approved auxiliary parachute. That exemption also permits pilots in command of aircraft involved in these operations to allow such persons to make these parachute jumps.

Grant, 04/05/2000, Exemption No. 4943L.

Docket No.: 29661

Petitioner: Experimental Aircraft Association, Small Aircraft Manufacturers Association, and National Association of Flight Instructors

Section of the FAR Affected: 14 CFR 91.319(a)(1) and (2)

Description of Relief Sought/Disposition: To permit members of the Experimental Aircraft Association, the Small Aircraft Manufacturers Association, and the National Association of Flight Instructors who own certain amateur- and kit-built aircraft certificated in the experimental category to receive compensation for the use of the aircraft for the purpose of conducting aircraft-specific flight training and flight reviews under 14 CFR 61.56.

Grant, 04/06/2000, Exemption No. 7162.

Docket No.: 27258

Petitioner: Air Methods Corporation

Section of the FAR Affected: 14 CFR 135.143(c)(2)

Description of Relief Sought/Disposition: To permit AMC to operate certain aircraft under the provisions of part 135 without a TSO-C112 (Mode S) transponder installed.

Grant, 04/13/2000, Exemption No. 5720C.

Docket No.: 29940

Petitioner: Parker Hannifin Corporation

Section of the FAR Affected: 14 CFR 145.45(f)

Description of Relief Sought/Disposition: To permit Parker to make its Inspection Procedures Manual (IPM) available electronically to its supervisory and inspection personnel rather than give a copy to each.

Grant, 04/16/2000, Exemption No. 7185.

Docket No.: 27729

Petitioner: Skydive Sebastian, Inc.

Section of the FAR Affected: 14 CFR 105.43(a)

Description of Relief Sought/Disposition: To permit SSI to allow nonstudent parachutists who are foreign nationals to use parachutes that do not meet the parachute equipment and packing requirements of the Federal Aviation Regulations.

Grant, 04/17/2000, Exemption No. 7169.

Docket No.: 29510

Petitioner: Cessna Aircraft Company

Section of the FAR Affected: 14 CFR 145.45(f)

Description of Relief Sought/Disposition: To permit Cessna to distribute electronically its IPM to all repair station personnel, rather than give a paper copy of the IPM to each of its supervisory and inspection personnel.

Grant, 04/17/2000, Exemption No. 7170.

Docket No.: 27577

Petitioner: Aviall

Section of the FAR Affected: 14 CFR 145.45(f)

Description of Relief Sought/Disposition: To permit to maintain one copy of its repair station IPM at each facility rather than give a copy of the IPM to each of its supervisory and inspection personnel.

Grant, 04/17/2000, Exemption No. 5940C.

Docket No.: 28468

Petitioner: Honolulu Community College Aeronautics.

Section of the FAR Affected: 14 CFR 65.75(b)

Description of Relief Sought/Disposition: To permit HCC to use a continuous practical examination program in which students undergo FAA oral and practical testing concurrent with HCC's training program as an integral part of the education process, rather than conducting the oral and practical tests upon students' successful completion of the training program, and to allow HCC to use AERO Testing Board Members to administer the continuous oral and practical examinations to students of HCC's approved 14 CFR part 147 program at times and places identified in HCC's operations handbook.

Grant, 04/17/2000, Exemption No. 6764A.

Docket No.: 28590

Petitioner: Human Flight, Inc.

Section of the FAR Affected: 14 CFR 105.43(a)

Description of Relief Sought/Disposition: To permit Human Flight employees, representatives, and other volunteer test jumpers under Human Flight's direction and control and Human Flight certified tandem instructors to continue to make tandem/parachute jumps while wearing a dual-harness, dual-parachute pack having at least one main parachute and one approved auxiliary parachute packed in accordance with § 105.43(a), and to permit pilots in command of aircraft involved in these operations to continue to allow such persons to make these parachute jumps.

Grant, 04/17/2000, Exemption No. 6650C.

Docket No.: 25060

Petitioner: Boeing Commercial Airplane Group

Section of the FAR Affected: 14 CFR 21.197

Description of Relief Sought/Disposition: To permit Boeing to conduct training of Boeing's pilot flight crewmembers while operating under special flight permits issued for the purpose of production flight testing.

Grant, 04/17/2000, Exemption No. 4936D.

Docket No.: 29948

Petitioner: East Coast Aviation Service, Ltd., dba Executive Airlines

Section of the FAR Affected: 14 CFR 135.143(c)(2)

Description of Relief Sought/Disposition: To permit Executive Airlines to operate certain aircraft under part 135 without a TSO-C112 (Mode S) transponder installed in the aircraft.

Grant, 04/19/2000, Exemption No. 7171.

Docket No.: 29984

Petitioner: Norman L. Westerbuhr and Crossville Flying Association

Section of the FAR Affected: 14 CFR 135.251, 135.255, 135.353, appendixes I and J to part 121

Description of Relief Sought/Disposition: To permit Mr. Westerbuhr and CFA to conduct local sightseeing flights at the Crossville Memorial Airport, Crossville, Tennessee for an event on May 27, 2000, for compensation or hire, without complying with certain anti-drug and alcohol misuse prevention requirements of part 135.

Grant, 04/19/2000, Exemption No. 7172.

Docket No.: 29972

Petitioner: Western North Carolina Air Museum

Section of the FAR Affected: 14 CFR 135.251, 135.255, 135.353, and appendixes I and J to part 121

Description of Relief Sought/Disposition: To permit WNCAM to conduct local sightseeing flights at Hendersonville, North Carolina airport for WNCAM's Air Fair on May 6 and 7, 2000, for compensation or hire, without complying with certain anti-drug and alcohol misuse prevention requirements of part 135.

Grant, 04/19/2000, Exemption No. 7173.

Docket No.: 29933

Petitioner: Air Care, Inc.

Section of the FAR Affected: 14 CFR 135.143(c)(2)

Description of Relief Sought/Disposition: To permit Air Care to operate certain aircraft under part 135 without a TSO-C112 (Mode S) transponder installed in the aircraft.

Grant, 04/19/2000, Exemption No. 7174.

Docket No.: 29634

Petitioner: Petaluma Area Pilots Association

Section of the FAR Affected: 14 CFR 135.251, 135.255, 135.353, and appendixes I and J to part 121

Description of Relief Sought/Disposition: To permit PAPA to conduct local sightseeing flights at Petaluma Municipal Airport, for PAPA's “Penny-A-Pound” charitable event on Father's Day weekend in June 2000 and June 2001, for compensation or hire, without complying with certain anti-drug and alcohol misuse prevention requirements.

Grant, 04/19/2000, Exemption No. 6981A.

Docket No.: 29973

Petitioner: Mirabella Yachts, Inc.

Section of the FAR Affected: 14 CFR 135.143(c)(2)

Description of Relief Sought/Disposition: To permit Mirabella to operate certain aircraft under part 135 without a TSO-C112 (Mode S) transponder installed in the aircraft.

Grant, 04/21/2000, Exemption No. 7178.

Docket No.: 29993

Petitioner: Davis Aerospace Technical High School and Black Pilots of America

Section of the FAR Affected: 14 CFR 135.251, 135.255, 135.353, and appendixes I and J to part 121

Description of Relief Sought/Disposition: To permit DATHS and BPA to conduct local sightseeing flights at Davis Aerospace Technical High School, Detroit, Michigan for its annual open house on May 21, 2000, for compensation or hire, without complying with certain anti-drug and alcohol misuse prevention requirements.

Grant, 04/21/2000, Exemption No. 7177.

Docket No.: 29902

Petitioner: Brim Equipment Leasing, Inc., dba Brim Aviation

Section of the FAR Affected: 14 CFR 135.143(c)(2)

Description of Relief Sought/Disposition: To permit Brim to operate certain aircraft under part 135 without a TSO-C112 (Mode S) transponder installed in the aircraft. Grant, 04/21/2000, Exemption No. 7176.

Docket No: 29971

Petitioner: DeKalb Peachtree Airport

Section of the FAR Affected: 14 CFR 135.251, 135.255, 135.353, and appendixes I and J to part 121

Description of Relief Sought/Disposition: To permit DPA to conduct local sightseeing flights at DeKalb Peachtree Airport for its Good Neighbor Day Open House/Airshow on June 3, 2000, for compensation or hire, without complying with certain anti-drug and alcohol misuse prevention requirements of part 135.

Grant, 04/21/2000, Exemption No. 7175.

Docket No.: 29935

Petitioner: Friends of Allen County Airport

Section of the FAR Affected: 14 CFR 135.251, 135.255, 135.353, and appendixes I and J to part 121

Description of Relief Sought/Disposition: To permit FACA to conduct local sightseeing flights at Allen County Airport, Iola, Kansas for a fly-in and open house on May 6, 2000, for compensation or hire, without complying with certain anti-drug and alcohol misuse prevention requirements of part 135.

Grant, 04/21/2000, Exemption No. 7179.

Docket No.: 29962

Petitioner: Challenged Child, Inc. and friends

Section of the FAR Affected: 14 CFR 135.251, 135.255, 135.353, and appendixes I and J to part 121

Description of Relief Sought/Disposition: To permit Challenged Child to conduct local sightseeing flights at the Gainesville, Georgia airport for charitable airlifts on May 6 and 7, 2000, for compensation or hire, without complying with certain anti-drug and alcohol misuse prevention requirements of part 135.

Grant, 04/21/2000, Exemption No. 7180.

Docket No.: 29411

Petitioner: Spirit Aviation Incorporated

Section of the FAR Affected: 14 CFR 135.225(g)

Description of Relief Sought/Disposition: To permit Spirit Aviation to conduct takeoffs in single-pilot, turbine-powered airplanes where takeoff visibility is one-half of a mile down to 1,800 feet (ft) runway visual range (RVR), subject to certain conditions and limitations.

Denial, 04/23/2000, Exemption No. 7186.

Docket No.: 29942

Petitioner: Metro Ambulance Group

Section of the FAR Affected: 14 CFR 135.143(c)(2)

Description of Relief Sought/Disposition: To permit MAG to operate certain aircraft under part 135 without a TSO-C112 (Mode S) transponder installed in the aircraft.

Grant, 04/25/2000, Exemption No. 7182.

Docket No.: 28148

Petitioner: Capital City Air Carrier, Inc.

Section of the FAR Affected: 14 CFR 135.143(c)(2)

Description of Relief Sought/Disposition: to permit CCAC to operate certain aircraft under part 135 without a TSO-C112 (Mode S) transponder installed in the aircraft.

Grant, 04/25/2000, Exemption No. 7181.

Docket No.: 29965

Petitioner: Hageland Aviation Services, Inc.

Section of the FAR Affected: 14 CFR 135.143(c)(2)

Description of Relief Sought/Disposition: To permit HAS to operate certain aircraft under part 135 without a TSO-C112 (Mode S) transponder installed in the aircraft.

Grant, 04/25/2000, Exemption No. 7183.

Docket No.: 30007

Petitioner: Charlie Wells Aviation Scholarship

Section of the FAR Affected: 14 CFR 135.251, 135.255, 135.353, and appendixes I and J to part 121

Description of Relief Sought/Disposition: To permit CWMAS to conduct local sightseeing flights at Capital Airport, Springfield, Illinois for scholarship fund raising flights on April 29 and 30, 2000, for compensation or hire, without complying with certain anti-drug and alcohol misuse prevention requirements of part 135.

Grant, 04/26/2000, Exemption No. 7184.

Docket No.: 29092

Petitioner: Pratt & Whitney Engine Services, Inc,

Section of the FAR Affected: 14 CFR 145.45(f)

Description of Relief Sought/Disposition: To permit PWES to assign IPMs to key individuals within departments and to strategically place an adequate number of IPMs for access by all employees, in lieu of giving a copy of the IPM to each of its supervisory and inspection personnel.

Grant, 04/28/2000, Exemption No. 6750A.

[FR Doc. 00-17786 Filed 7-12-00; 8:45 am]

BILLING CODE 4910-13-M